DEPARTMENT OF HEALTH AND HUMAN SERVICES

Administration for Community Living

Agency Information Collection Activities: Submission for OMB Review; Comment Request; Alzheimer's and Dementia Program Data Reporting Tool (ADP-DRT) (Previously Entitled: Alzheimer's Disease Supportive Services Program Data Reporting Tool (ADSSP-DRT) and Alzheimer's disease Initiative— Specialized Supportive Services (ADI- SSS) project))

AGENCY: Administration for Community Living, HHS.

ACTION: Notice.

SUMMARY: In compliance with 44 U.S.C. 3507, the Administration on Aging (AoA), Administration for Community Living (ACL), is announcing that the proposed collection of information listed above has been submitted to the Office of Management and Budget (OMB) for review and clearance as required under the Paperwork Reduction Act of 1995. This notice collects comments on the information collection requirements relating to the continuation of an existing data collection for the Alzheimer's and Dementia Program Data Reporting Tool (ADP-PDR) and expansion of this collection to incorporate ACL grantees of the Alzheimer's Disease Initiative— Specialized Supportive Services (ADI-SSS) project.

DATES: Submit written comments on the collection of information by January 30, 2017.

ADDRESSES: Submit written comments on the collection of information by fax to (202) 395-5806 or by email to OIRA_submission@omb.eop.gov, Attn: OMB Desk Officer for ACL.

FOR FURTHER INFORMATION CONTACT: Erin Long, (202) 795-7389; Erin.Long@acl.hhs.gov.

SUPPLEMENTARY INFORMATION: The Alzheimer's Disease Supportive Services Program (ADSSP) is authorized through Sections 398, 399 and 399A of the Public Health Service (PHS) Act, as amended by Public Law 101-557, the Home Health Care and Alzheimer's disease Amendments of 1990. The ADSSP helps state efforts to expand the availability of community-level supportive services for persons with Alzheimer's disease and their caregivers, including underserved populations. ADI-SSS projects are financed solely by Prevention and Public Health Funds. Similar in scope to ADSSP, ADI-SSS projects are designed to fill gaps in dementia-capable home and community based services (HCBS) for persons living with or those at high risk of developing Alzheimer's disease and related dementias (ADRD) and their caregivers by providing quality, person-centered services that help them remain independent and safe in their communities. In compliance with the PHS Act, ACL revised the ADSSP Data Reporting Tool (ADSSP-DRT) in 2013 to add demographic data, information on the individuals trained, and service and expenditure data. The 2016 revised Alzheimer's and Dementia Program Data Reporting Tool (ADP-DRT) retains these changes and has been expanded to collect information about the delivery of direct services by both ADSSP and ADI-SSS grantees, as well as basic demographic information about service recipients.

Comments in Response to the 60-Day Federal Register Notice:

A 60-day Federal Register Notice was published in the Federal Register on August 23, 2016, Vol. 18, No. 136; pp. 57591. There was one public comment received pertaining to the categories for living arrangements. The comment suggested that the categories needed to have a clear definition. ACL accepted the comment, and the tool was revised by condensing the categories and providing an update to its definition of categories for living arrangements. The proposed ADP-DRT can be found on AoA's Web site at: https://nadrc.acl.gov/sites/default/files/uploads/docs/Proposed%20ADP-DRT%20Update%2011_30_2016.xlsx.

Annual Burden Estimates: The estimated hourly burden for this revised ADP-DRT is based on the number of persons served in the most recent ADSSP and ADI grantee data submission. In addition, the burden hours per response were determined based on reports from a sample of ADSSP and ADI grants.

Instrument | Type of respondent | Number of respondents | Responses per respondent | Burden hours per response | Total burden hours (annual)
ADP-DRT | Local Program Site | 76 | 2 | 4.67 | 709.84
ADP-DRT | Grantee | 38 | 2 | 3.6 | 273.6.

Estimated Total Annual Burden Hours: 983.44.

Dated: December 22, 2016.
Edwin L. Walker,
Acting Administrator and Assistant Secretary for Aging.

[FR Doc. 2016-31528 Filed 12-28-16; 8:45 am]

BILLING CODE 4154-01-P